FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 6, 2017.

A. Federal Reserve Bank of San Francisco (Gerald C. Tsai, Director, Applications and Enforcement) 101 Market Street, San Francisco, California 94105-1579:

1. Basswood Capital Management, LLC; Basswood Opportunity Partners, LP, Basswood Financial Fund, LP, and Basswood Financial Long Only Fund, LP, funds for which Basswood Partners, LLC, serves as General Partner and Basswood Capital Management, LLC, serves as Investment Manager; Basswood Opportunity Fund, Inc., and Basswood Financial Fund, Inc., funds for which Basswood Capital Management, LLC, serves as Investment Manager; Basswood Capital Management, LLC, as investment adviser to three managed accounts; and Bennett Lindenbaum and Matthew Lindenbaum, as Managing Members of Basswood Partners, LLC, and of Basswood Capital Management, LLC; all of New York, New York; to acquire voting shares of CommerceWest Bank, Irvine, California.

Board of Governors of the Federal Reserve System, May 15, 2017.
Yao-Chin Chao,
Assistant Secretary of the Board.

[FR Doc. 2017-10069 Filed 5-17-17; 8:45 am]

BILLING CODE 6210-01-P